DEPARTMENT OF THE INTERIOR

National Park Service

[N6495; NPS-WASO-NAGPRA-NPS0041036; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice.

DATES: Repatriation of the human remains and associated funerary objects in this notice may occur on or after October 14, 2025.

ADDRESSES: Send written requests for repatriation of the human remains and associated funerary objects in this notice to Deanna Byrd, Peabody Museum of Archaeology and Ethnology, Harvard University, 11 Divinity Avenue, Cambridge, MA 02138, email deannabyrd@fas.harvard.edu.

SUPPLEMENTARY INFORMATION: This notice is published as part of the National Park Service's administrative responsibilities under NAGPRA. The determinations in this notice are the sole responsibility of the PMAE, and additional information on the determinations in this notice, including the results of consultation, can be found in its inventory or related records. The National Park Service is not responsible for the determinations in this notice.

Abstract of Information Available

Human remains representing, at least, one individual have been identified. The seven associated funerary objects are one carved frog effigy pipe, two lots of deer skin fragments or pieces, one lot of a copper plated, small iron ring, one lot of fiber, one lot of an iron tomahawk or trade hatchet, and one lot of metal fragments. The individual and associated funerary objects were removed from a burial place in Avon, Livingston County, NY, likely by Frederic Ward Putnam in 1889 as part of a Peabody Museum Expedition.

Human remains representing, at least, one individual have been identified. The one associated funerary object is one lot of bone and teeth fragments, worked bone, pipe stem. The individual and associated funerary objects were removed from the Ganada site in St. Johnsville, Montgomery County, NY, likely by Mark Raymond Harrington and Irwin Hayden in 1905 as part of a Peabody Museum expedition.

Human remains representing, at least, three individuals have been identified. The nine associated funerary objects are one lot of beaver tooth chisel, one lot of body and rim sherds, three lots of bone and teeth fragments, one lot of bone perforator, one lot of bones, one lot of bones and teeth, and one lot of potsherds. The individual and associated funerary objects were removed from the Garoga site in Ephrataha, Fulton County, NY, likely by Mark Raymond Harrington and Irwin Hayden in 1905 as part of a Peabody Museum expedition.

A total of nine associated funerary objects were removed from the Silverheels site in Brant, Erie County, NY, likely by Mark Raymond Harrington and Irwin Hayden in 1905 as part of a Peabody Museum expedition. These associated funerary objects were defined during consultation, in which either the location of the human remains is known but they are not present at the PMAE and/or the objects were made exclusively for burial purposes, according to Native American traditional knowledge. These nine associated funerary objects are one stone chipped primary flake, one stone chipped tool, one lot of antler arrow flakes, one lot of a bag of burnt acorns, one bag of burned nuts, possibly acorns, one lot of ceramic sherd, two lots of charred acorns, and one lot of a string of glass beads.

A total of 17 associated funerary objects removed from the Ripley site in Brant, Erie County, NY, likely by Mark Raymond Harrington and Irwin Hayden in 1905 as part of a Peabody Museum expedition. These associated funerary objects were defined during consultation, in which either the location of the human remains is known but they are not present at the PMAE and/or the objects were made exclusively for burial purposes, according to Native American traditional knowledge. These 17 associated funerary objects are one chipped stone, projectile point, stemmed, one adze, one coarse earthenware body sherd, undecorated, one faunal remain fragment, one scraper, one lot bird bone, one lot bones of animals, one lot burnt clay, one lot ceramic sherd, six lots of faunal bones, remains, and fragment, one lot of sherds, and one lot of rejects.

Cultural Affiliation

Based on the information available and the results of consultation, cultural affiliation is clearly identified by the information available about the human remains and associated funerary objects described in this notice.

Determinations

The PMAE has determined that:

• The human remains described in this notice represent the physical remains of five individuals of Native American ancestry.

• The 43 objects described in this notice are reasonably believed to have been placed intentionally with or near individual human remains at the time of death or later as part of the death rite or ceremony.

• There is a connection between the human remains and associated funerary objects described in this notice and the Cayuga Nation; Oneida Indian Nation; Oneida Nation; Onondaga Nation; Saint Regis Mohawk Tribe; Seneca Nation of Indians; Seneca-Cayuga Nation; Tonawanda Band of Seneca; and the Tuscarora Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 14, 2025. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice and any other consulting parties.

Authority: Native American Graves Protection and Repatriation Act, 25 U.S.C. 3003, and the implementing regulations, 43 CFR 10.10.

Dated: August 29, 2025.
Melanie O'Brien,
Manager, National NAGPRA Program.

[FR Doc. 2025-17617 Filed 9-11-25; 8:45 am]

BILLING CODE 4312-52-P